FEDERAL COMMUNICATIONS COMMISSION

[AU Docket No. 14-252, GN Docket No. 12-268, WT Docket No. 12-269; DA 15-1435]

Guidance Regarding License Assignments and Transfers of Control During the Reverse Auction, Auction 1001

AGENCY: Federal Communications Commission.

ACTION: Notice.

SUMMARY: This document provides guidance regarding reverse auction participation by parties to pending transactions involving broadcast television licenses.

FOR FURTHER INFORMATION CONTACT: Wireless Telecommunications Bureau, Auctions and Spectrum Access Division: For general reverse auction questions contact Erin Griffith or Kathryn Hinton at (202) 418-0660. Media Bureau licensing questions contact David Brown at (202) 418-1645 or Dorann Bunkin at (202) 418-1636.

SUPPLEMENTARY INFORMATION: This is a summary of the Auction 1001 Guidance on Broadcast Transactions Public Notice (PN), AU Docket No. 14-252, GN Docket No. 12-268, WT Docket No. 12-269, DA15-1435, released on December 17, 2015. The complete text of the Auction 1001 Guidance on Broadcast Transactions PN, is available for public inspection and copying from 8:00 a.m. to 4:30 p.m. ET Monday through Thursday or from 8:00 a.m. to 11:30 a.m. ET on Fridays in the FCC Reference Information Center, 445 12th Street SW., Room CY-A257, Washington, DC 20554. The complete text is also available on the Commission's Web site at http://wireless.fcc.gov, or by using the search function on the ECFS Web page at http://www.fcc.gov/cgb/ecfs/. Alternative formats are available to persons with disabilities by sending an email to ­FCC504@fcc.gov or by calling the Consumer & Governmental Affairs Bureau at (202) 418-0530 (voice), (202) 418-0432 (TTY).

1. The Wireless Telecommunications Bureau (Bureau) recently waived the bar on the assignment of a license in, or transfer of control of an applicant for, the reverse auction, provided that (1) the assignment or transfer application has been accepted for filing as of January 12, 2016, the reverse auction application filing deadline, and (2) the assignee or transferee agrees to be bound by the original applicant's actions in the auction with respect to the license(s). Subject to these two requirements and Commission approval, assignments and transfers involving participating licensees may be consummated during the reverse auction.

2. Reverse auction participants will utilize the FCC Registration Number (FRN) and related password associated with a station to access the application and bidding systems (collectively, the Auction System) with respect to that station. The Bureau has frozen the FRN data in the Auction System as of December 8, 2015, the opening date for the reverse auction filing window. An assignee/transferee in a pending transaction that is approved and consummated until the completion of the auction will have two options if it wishes to participate in the reverse auction on behalf of a station covered by such a transaction. First, it may contractually designate the assignor/transferor as its bidding agent for the covered stations. Second, the parties to the transaction may agree that the assignee/transferee will use the FRN and password associated with assigned or transferred stations (the “auction FRN”) to apply for and participate in the reverse auction. The parties must elect one of these options prior to the beginning of the prohibited communications period on January 12, 2016 and inform the Commission which option they have elected. Alternatively, the parties may wait until after the auction to seek approval and consummate the transaction.

3. With regard to the second option, the auction FRN and password will also provide access to the assignor/transferor's data in Commission licensing and other systems associated with that FRN. To prevent the assignee/transferee from accessing the information related to the stations the assignor/transferor may retain, the assignor/transferor may obtain a new FRN and password for those stations. Additionally, the auction FRN and password will provide access to the assignor/transferor's bidding information for any stations associated with the auction FRN. Thus, if a transaction involves fewer than all the licenses associated with the auction FRN, the assignee/transferee and the assignor/transferor would both have access to the same bidding information regarding all the licenses associated with that auction FRN that are in the reverse auction.

4. As a result, the parties to a pending transaction must acknowledge that the Commission is not liable for their use of any systems or information accessed as a result of a shared FRN and password under the second option. The parties may also want to contractually limit the assignee/transferee's right to access and/or use any such systems or information. Finally, the parties are subject to the rule prohibiting communication of an incentive auction applicant's bids and bidding strategies.

Federal Communications Commission.
Craig Bomberger,
Deputy Division Chief, Auctions and Spectrum Access Division, WTB.

[FR Doc. 2015-32840 Filed 12-29-15; 8:45 am]

BILLING CODE 6712-01-P